DEPARTMENT OF AGRICULTURE

Forest Service

Kern and Tulare Counties Resource Advisory Committee

AGENCY: Forest Service, USDA.

ACTION: Notice of meeting.

SUMMARY: The first meeting of the Kern and Tulare Counties Resource Advisory Committee will meet in Porterville, California. This will be the first of several meetings to establish a charter, to identify roles and responsibilities, including protocols for the application process, propose due dates for grants, and to determine the process to use to select projects for funding.

The purpose of the Tulare and Kern Counties Resource Advisory Committee is to receive and review project proposals for Fiscal Year 2010 funds available through the Secure Rural Schools and Community Self-Determination Act of 2000 (Pub. L. 106-393, reauthorized on October 3, 2008, as part of Pub. L. 110-343).

DATES: The proposed meeting will be held on May 27, 2010 from 6 p.m. to 9 p.m.

ADDRESSES: The meeting will be held at the Sequoia National Forest Headquarters, 1839 South Newcomb Street, Porterville, California, 93257.

FOR FURTHER INFORMATION CONTACT: Priscilla Summers, Kern and Tulare Counties Resource Advisory Committee Designated Federal Official, c/o Sequoia National Forest, Western Divide Ranger District, 32588 Highway 190, Springville, CA 93265 or electronically to psummers@fs.fed.us, or by telephone: (559) 539-2607, extension 210.

SUPPLEMENTARY INFORMATION: The meeting is open to the public. Committee discussion is limited to Forest Service staff and Committee members.

Dated: April 27, 2010.
Nancy C. Ruthenbeck,
Acting Forest Supervisor.

[FR Doc. 2010-10285 Filed 4-30-10; 8:45 am]

BILLING CODE 3410-11-P